DEPARTMENT OF EDUCATION

Applications for New Awards; Indian Education Discretionary Grants Programs—Professional Development Grants Program

AGENCY: Office of Elementary and Secondary Education, Department of Education.

ACTION: Notice.

SUMMARY: The Department of Education is issuing a notice inviting applications for new awards for fiscal year (FY) 2018 for Indian Education Discretionary Grants Programs—Professional Development Program, Catalog of Federal Domestic Assistance (CFDA) Number 84.299B.

DATES: Applications Available: June 14, 2018.

Deadline for Notice of Intent to Apply: June 29, 2018.

Deadline for Transmittal of Applications: July 30, 2018.

Deadline for Intergovernmental Review: September 27, 2018.

ADDRESSES: For the addresses for obtaining and submitting an application, please refer to our Common Instructions for Applicants to Department of Education Discretionary Grant Programs, published in the Federal Register on February 12, 2018 (83 FR 6003) and available at www.gpo.gov/fdsys/pkg/FR-2018-02-12/pdf/2018-02558.pdf.

FOR FURTHER INFORMATION CONTACT: Angela Hernandez-Marshall, U.S. Department of Education, 400 Maryland Avenue SW, Room 3W113, Washington, DC 20202-6335. Telephone: (202) 205-1909 or by email: angela.hernandez-marshall@ed.gov.

If you use a telecommunications device for the deaf (TDD) or a text telephone (TTY), call, toll free: 1-877-576-7734.

SUPPLEMENTARY INFORMATION:

Full Text of Announcement

I. Funding Opportunity Description

Purpose of Program: The purposes of the Indian Education Professional Development Grants program that are relevant to this competition are to increase the number of qualified Indian individuals in professions that serve Indians; and to provide training to qualified Indian individuals to become teachers and administrators.

Priorities: This competition contains two absolute priorities, and four competitive preference priorities. We are establishing Absolute Priorities 1 and 2 and Competitive Preference Priority 1 for the FY 2018 grant competition and any subsequent year in which we make awards from the list of unfunded applications from this competition, in accordance with section 437(d)(1) of the General Education Provisions Act (GEPA), 20 U.S.C. 1232(d)(1). In accordance with 34 CFR 75.105(b)(2)(ii), Competitive Preference Priorities 2 and 3 are from the regulations for this program (34 CFR 263.5). Competitive Preference Priority 4 is from the Department's notice of Final Supplemental Priorities and Definitions for Discretionary Grant Programs (Supplemental Priorities), published in the Federal Register on March 2, 2018 (83 FR 9096).

Absolute Priorities: These priorities are absolute priorities. Under 34 CFR 75.105(c)(3) we consider only applications that meet one or both of these priorities.

These priorities are:

Absolute Priority 1: Pre-Service training for teachers.

Projects that—

(i) Provide support and training to Indian individuals to complete a pre-service education program before the end of the award period that enables the individuals to meet the requirements for full State certification or licensure as a teacher through—

(A) Training that leads to a degree in education;

(B) For States allowing a degree in a specific subject area, training that leads to a degree in the subject area; or

(C) Training in a current or new specialized teaching assignment that requires a degree and in which a documented teacher shortage exists;

(ii) Provide two years of induction services, during the award period, to participants after graduation, certification, or licensure, while they are completing their first two years of work as teachers in local education agencies (LEAs) (including Bureau of Indian Education (BIE)-funded schools) that serve a high proportion of Indian students; and

(iii) Include goals for the—

(A) Number of participants to be recruited each year;

(B) Number of participants to continue in the project each year;

(C) Number of participants to graduate each year; and

(D) Number of participants to find qualifying jobs within 12 months of completion.

Absolute Priority 2: Pre-service administrator training.

Projects that—

(i) Provide support and training to Indian individuals to complete a graduate degree in education administration that is provided before the end of the award period and that allows participants to meet the requirements for State certification or licensure as an education administrator;

(ii) Provide two years of induction services, during the award period, to participants after graduation, certification, or licensure, while they are completing their first two years of work as administrators in LEAs (including BIE-funded schools) that serve a high proportion of Indian students; and

(iii) Include goals for the—

(A) Number of participants to be recruited each year;

(B) Number of participants to continue in the project each year;

(C) Number of participants to graduate each year; and

(D) Number of participants to find qualifying jobs within twelve months of completion.

Competitive Preference Priorities: For FY 2018 and any subsequent year in which we make awards from the list of unfunded applications from this competition, these priorities are competitive preference priorities. Under 34 CFR 75.105(c)(2)(ii) we award an additional three points to an application that meets Competitive Preference Priority 1, an additional five points to an application that meets Competitive Preference Priority 2, an additional three points to an application that meets Competitive Preference Priority 3, and up to an additional five points to an application, depending on how well the application meets Competitive Preference Priority 4. Applicants who receive points under Competitive Preference Priority 2 are not eligible for points under Competitive Preference Priority 3; thus the maximum number of points is 13.

These priorities are:

Competitive Preference Priority 1 (Zero or three additional points).

An application that includes a letter of support signed by the authorized representative of an LEA or BIE-funded school that agrees to consider program graduates for qualifying jobs and that serves a high proportion of Indian students.

Competitive Preference Priority 2 (Zero or five additional points).

An application submitted by an Indian Tribe, Indian organization, or Tribal College or University (as defined in section 316 of the Higher Education Act of 1965) (TCU) that is eligible to participate in the Professional Development program. A consortium application of eligible entities that meets the requirements of 34 CFR 75.127 through 75.129 and includes an Indian Tribe, Indian organization, or TCU will be considered eligible to receive preference under this priority only if the lead applicant for the consortium is the Indian Tribe, Indian organization, or TCU. In order to be considered a consortium application, the application must include the consortium agreement, signed by all parties.

Competitive Preference Priority 3 (Zero or three additional points).

A consortium application of eligible entities whose lead is non-Tribal that—

(i) Meets the requirements of 34 CFR 75.127 through 75.129 and includes an Indian Tribe, Indian organization, or TCU; and

(ii) Is not eligible to receive a preference under Competitive Preference Priority 2.

Competitive Preference Priority 4 (Up to five additional points):

An application that is designed to increase the opportunities for high-quality preparation of, or professional development for, teachers or other educators of science, technology, engineering, math, or computer science.

Application Requirements:

Application requirements 1 and 3 below are from 20 U.S.C. 7442(e), and application requirement 2 is established, for the FY 2018 grant competition and any subsequent year in which we make awards from the list of unfunded applications from this competition, in accordance with section 437(d)(1) of GEPA, 20 U.S.C. 1232(d)(1).

Each application must describe how the eligible entity will—

(1) Recruit qualified Indian individuals, such as students who may not be of traditional college age, to become teachers, principals, or school leaders;

(2) Use funds made available under the grant to support the recruitment, preparation, and professional development of Indian teachers or principals in local educational agencies (including BIE-funded schools) that serve a high proportion of Indian students; and

(3) Assist participants in meeting the payback requirements.

Statutory Hiring Preference:

(a) Awards that are primarily for the benefit of Indians are subject to the provisions of section 7(b) of the Indian Self-Determination and Education Assistance Act (Pub. L. 93-638). That section requires that, to the greatest extent feasible, a grantee—

(1) Give to Indians preferences and opportunities for training and employment in connection with the administration of the grant; and

(2) Give to Indian organizations and to Indian-owned economic enterprises, as defined in section 3 of the Indian Financing Act of 1974 (25 U.S.C. 1452(e)), preference in the award of contracts in connection with the administration of the grant.

(b) For purposes of this section, an Indian is a member of any federally recognized Indian Tribe.

Definitions:

The definition of “computer science” is from the Supplemental Priorities. The definition of “Indian organization” is from the program regulations, 34 CFR 263.3. We are establishing the definition of “qualifying job,” for the FY 2018 grant competition and any subsequent year in which we make awards from the list of unfunded applications from this competition, in accordance with section 437(d)(1) of GEPA, 20 U.S.C. 1232(d)(1).

Computer science means the study of computers and algorithmic processes and includes the study of computing principles and theories, computational thinking, computer hardware, software design, coding, analytics, and computer applications.

Computer science often includes computer programming or coding as a tool to create software, including applications, games, websites, and tools to manage or manipulate data; or development and management of computer hardware and the other electronics related to sharing, securing, and using digital information.

In addition to coding, the expanding field of computer science emphasizes computational thinking and interdisciplinary problem-solving to equip students with the skills and abilities necessary to apply computation in our digital world.

Computer science does not include using a computer for everyday activities, such as browsing the internet; use of tools like word processing, spreadsheets, or presentation software; or using computers in the study and exploration of unrelated subjects.

Indian organization means an organization that—

(1) Is legally established—

(i) By Tribal or inter-Tribal charter or in accordance with State or Tribal law; and

(ii) With appropriate constitution, by-laws, or articles of incorporation;

(2) Includes in its purposes the promotion of the education of Indians;

(3) Is controlled by a governing board, the majority of which is Indian;

(4) If located on an Indian reservation, operates with the sanction or by charter of the governing body of that reservation;

(5) Is neither an organization or subdivision of, nor under the direct control of, any institution of higher education; and

(6) Is not an agency of State or local government.

Qualifying job means employment in the participant's field of study under this program, in an LEA (including a BIE-funded school) that serves a high proportion of Indian students.

Waiver of Proposed Rulemaking: Under the Administrative Procedure Act (5 U.S.C. 553) the Department generally offers interested parties the opportunity to comment on proposed priorities, requirements, definitions, and selection criteria. Section 437(d)(1) of GEPA, however, allows the Secretary to exempt from rulemaking requirements, regulations governing the first grant competition under a new or substantially revised program authority. This is the first grant competition for this program under section 6122 of the Elementary and Secondary Education Act of 1965 (ESEA), as amended by the Every Student Succeeds Act (20 U.S.C. 7442) and therefore qualifies for this exemption. In order to ensure timely grant awards, the Secretary has decided to forgo public comment on certain aspects of this notice, including some of the priorities, requirements, definitions and selection criteria under section 437(d)(1) of GEPA. These priorities, requirements, definitions, and selection criteria will apply to the FY 2018 grant competition and any subsequent year in which we make awards from the list of unfunded applications from this competition.

Program Authority: 20 U.S.C. 7442.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations for this program in 34 CFR part 263. (e) The Supplemental Priorities.

Note: The open licensing requirement in 2 CFR 3474.20 does not apply for this program.

Note: The regulations in 34 CFR part 79 apply to all applicants except federally recognized Indian Tribes.

Note: The regulations in 34 CFR part 86 apply to institutions of higher education only.

II. Award Information

Type of Award: Discretionary grants.

Estimated Available Funds: The Administration has requested $37,291,000 for the Special Programs for Indian Children program for FY 2018, of which we intend to use an estimated $6,300,000 for this competition. The actual level of funding, if any, depends on final congressional action. However, we are inviting applications to allow enough time to complete the grant process before the end of the current fiscal year, if Congress appropriates funds for this program.

Contingent upon the availability of funds and the quality of applications, we may make additional awards in FY 2019 from the list of unfunded applications from this competition.

Estimated Range of Awards: $300,000-$400,000.

Estimated Average Size of Awards: $350,000.

Maximum Award: We will not make an award exceeding $400,000 for the first, second, or third 12-month budget period. The last two 12-month budget periods will be limited to induction services only, at a cost not to exceed $120,000 per year. We will not make an award exceeding $120,000 for the fourth or fifth 12-month budget period.

Estimated Number of Awards: 18.

Note: The Department is not bound by any estimates in this notice.

Project Period: Up to 60 months. We will award grants for an initial period of not more than three years, and may renew such grants for an additional period of not more than two years if we find that the grantee is achieving the objectives of the grant.

III. Eligibility Information

1. Eligible Applicants:

(a) An applicant must be an eligible entity which means—

(1) An institution of higher education, including a TCU;

(2) A State educational agency in consortium with an institution of higher education;

(3) An LEA in consortium with an institution of higher education;

(4) An Indian Tribe or Indian organization in consortium with an institution of higher education; or

(5) A BIE-funded school, in consortium with at least one TCU, where feasible.

(b) Eligibility of an applicant requiring a consortium with an institution of higher education, including a TCU, requires that the institution of higher education be accredited to provide the coursework and level of degree required by the project.

(c) An applicant applying as an Indian organization must demonstrate that the entity meets the definition of “Indian organization.”

2. Cost Sharing or Matching: This program does not require cost sharing or matching.

3. Other: Projects funded under this competition should budget for a two-day Project Directors' meeting in Washington, DC during each year of the project period.

IV. Application and Submission Information

1. Application Submission Instructions: For information on how to submit an application please refer to our Common Instructions for Applicants to Department of Education Discretionary Grant Programs, published in the Federal Register on February 12, 2018 (83 FR 6003) and available at www.gpo.gov/fdsys/pkg/FR-2018-02-12/pdf/2018-02558.pdf.

2. Submission of Proprietary Information: Given the types of projects that may be proposed in applications for the Indian Education Professional Development Grants program, your application may include business information that you consider proprietary. In 34 CFR 5.11 we define “business information” and describe the process we use in determining whether any of that information is proprietary and, thus, protected from disclosure under Exemption 4 of the Freedom of Information Act (5 U.S.C. 552, as amended).

Because we plan to make successful applications available to the public by posting them on our website, you may wish to request confidentiality of business information. Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this competition.

4. Funding Restrictions: We specify allowable costs in 34 CFR 263.4.

A Professional Development program may include, as training costs, assistance to—

(1) Fully finance a student's educational expenses including tuition, books, and required fees; health insurance required by the institution of higher education; stipend; dependent allowance; technology costs; program required travel; and instructional supplies; or

(2) Supplement other financial aid, including Federal funding other than loans, for meeting a student's educational expenses.

The maximum stipend amount is $1,800 per month for full-time students; grantees may also provide participants with a $300 allowance per month per dependent during an academic term. The Department will reduce any stipends in excess of this amount. The terms “stipend,” “full-time student,” and “dependent allowance” are defined in 34 CFR 263.3. Stipends may be paid only to full-time students.

Other costs that a Professional Development program may include, but that must not be included as training costs, include costs for—

(1) Collaborating with prospective employers within the grantees' local service area to create a pool of potentially available qualifying jobs;

(2) Assisting participants in identifying and securing qualifying jobs in their fields of study following completion of the program; and

(3) Teacher mentoring programs, professional guidance, and instructional support provided by educators, local traditional leaders, or cultural experts, as appropriate for teachers during their first two years of employment as teachers.

We reference additional regulations outlining funding restrictions in the Applicable Regulations section of this notice.

5. Recommended Page Limit: The application narrative is where you, the applicant, address the selection criteria that reviewers use to evaluate your application. We recommend that you (1) limit the application narrative to no more than 30 pages and (2) use the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; or the two-page abstract, the resumes, the bibliography, the letters of support, or the signed consortium agreement, if applicable.

V. Application Review Information

1. Selection Criteria: The selection criteria for this competition include selection criteria taken from 34 CFR 75.210, and from the program regulations (34 CFR 263.6). We are establishing the remaining selection criteria for the FY 2018 grant competition and any subsequent year in which we make awards from the list of unfunded applications from this competition, in accordance with section 437(d)(1) of GEPA, 20 U.S.C. 1232(d)(1). The selection criteria are also listed in the application package. The maximum score for all of these criteria is 100 points. The maximum score for each criterion is indicated in parentheses.

(a) Need for project (GEPA Waiver) (Maximum 15 points). The Secretary considers the need for the proposed project. In determining the need for the proposed project, the Secretary considers the following factors:

(1) (Up to 5 points) The extent to which specific gaps or weaknesses in services, infrastructure, or opportunities have been identified and will be addressed by the proposed project, including the nature and magnitude of those gaps or weaknesses.

(2) (Up to 10 points) The extent to which employment opportunities exist in LEAs (including BIE-funded schools) that serve a high proportion of Indian students in the project's service area, as demonstrated through a job market analysis.

(b) Quality of the project design (GEPA Waiver) (Maximum 25 points). The Secretary considers the following factors in determining the quality of the design of the proposed project:

(1) (Up to 10 points) The extent to which the goals, objectives, and outcomes to be achieved by the proposed project are ambitious but also attainable and address—

(i) The number of participants expected to be recruited in the project each year;

(ii) The number of participants expected to continue in the project each year;

(iii) The number of participants expected to graduate; and

(iv) The number of participants expected to find qualifying jobs within twelve months of completion.

(2) (Up to 8 points) The extent to which the proposed project has a plan for recruiting and selecting participants, including students who may not be of traditional college age, that ensures that program participants are likely to complete the program.

(3) (Up to 7 points) The extent to which the proposed project will incorporate the needs of potential employers, as identified by a job market analysis, by establishing partnerships and relationships with appropriate entities (e.g., LEAs, including BIE-funded schools, that serve a high proportion of Indian students) and developing programs that meet their employment needs.

(c) Quality of project services (GEPA Waiver) (Maximum 25 points). The Secretary considers the following factors in determining the quality of project services:

(1) (Up to 4 points) The likelihood that the proposed project will provide participants with learning experiences that develop needed skills for successful teaching and/or administration in LEAs, including BIE-funded schools, that serve a high proportion of Indian students.

(2) (Up to 4 points) The extent to which the proposed project prepares participants to adapt teaching and/or administrative practices to meet the breadth of Indian student needs.

(3) (Up to 6 points) The extent to which the applicant will provide job placement activities that reflect the findings of a job market analysis and needs of potential employers that serve a high proportion of Indian students.

(4) (Up to 5 points) The extent to which the applicant will offer induction services that reflect the latest research on effective delivery of such services.

(5) (Up to 6 points) The extent to which the applicant will assist participants in meeting the service obligation requirements.

(d) Quality of project personnel (34 CFR 263.6) (Maximum 15 points). The Secretary considers the following factors when determining the quality of the personnel who will carry out the proposed project:

(1) (Up to 4 points) The qualifications, including relevant training, experience, and cultural competence, of the project director and the amount of time this individual will spend directly involved in the project.

(2) (Up to 8 points) The qualifications, including relevant training, experience, and cultural competence, of key project personnel and the amount of time to be spent on the project and direct interactions with participants.

(3) (Up to 3 points) The qualifications, including relevant training, experience, and cultural competence (as necessary), of project consultants or subcontractors, if any.

(e) Quality of the management plan. (34 CFR 75.210) (Maximum 20 points). The Secretary considers the following factors when determining the quality of the management plan for the proposed project:

(1) (Up to 7 points) The extent to which the costs are reasonable in relation to the number of persons to be served and to the anticipated results and benefits.

(2) (Up to 5 points) The adequacy of procedures for ensuring feedback and continuous improvement in the operation of the proposed project.

(3) (Up to 8 points) The extent to which the time commitments of the project director and principal investigator and other key project personnel are appropriate and adequate to meet the objectives of the proposed project.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Special Conditions: Consistent with 2 CFR 200.205, before awarding grants under this competition the Department conducts a review of the risks posed by applicants. Under 2 CFR 3474.10, the Secretary may impose special conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $150,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting.

4. Performance Measures: The Department has established the following Government Performance and Results Act of 1993 (GPRA) performance measures for the Indian Education Professional Development program: (1) The percentage of participants in administrator preparation projects who become principals, vice principals, or other school administrators in LEAs that serve American Indian and Alaska Native students; (2) the percentage of participants in teacher preparation projects who become teachers in LEAs that serve American Indian and Alaska Native students; (3) the percentage of program participants who meet State licensure requirements; (4) the percentage of program participants who complete their service requirement on schedule; (5) the cost per individual who successfully completes an administrator preparation program, takes a position in a school district that benefits American Indian/Alaska Native enrollment, and completes the service requirement in such a district; and (6) the cost per individual who successfully completes a teacher preparation program, takes a position in such a school district that benefits American Indian/Alaska Native enrollment, and completes the service requirement in such a district.

These measures constitute the Department's indicator of success for this program. Consequently, we advise an applicant for a grant under this program to give careful consideration to these measures in conceptualizing the approach and evaluation for its proposed project. Each grantee will be required to provide, in its annual performance and final reports, data about its progress in meeting these measures.

5. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

Pursuant to section 6122(g) of the ESEA, the Secretary will award grants for an initial period of not more than three years, and may renew such grants for an additional period of not more than two years if the Secretary finds that the grantee is achieving the objectives of the grant.

VII. Other Information

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: June 11, 2018.
Jason Botel,
Principal Deputy Assistant Secretary, Delegated the Authority to Perform the Functions and Duties of the Assistant Secretary of Elementary and Secondary Education.

[FR Doc. 2018-12823 Filed 6-13-18; 8:45 am]

BILLING CODE 4000-01-P